DEPARTMENT OF COMMERCE

International Trade Administration

[A-570-601]

Tapered Roller Bearings and Parts Thereof, Finished and Unfinished, From the People's Republic of China: Final Results of Antidumping Duty Changed Circumstances Review

AGENCY: Enforcement and Compliance, International Trade Administration, Department of Commerce.

SUMMARY: On January 3, 2023, the U.S. Department of Commerce (Commerce) published the preliminary results of the changed circumstances review (CCR) of the antidumping duty order on tapered roller bearings and parts thereof, finished and unfinished from the People's Republic of China (China). Commerce preliminarily determined that Stemco Vehicle Technology (Suzhou) Co., Ltd. (Stemco) is the successor-in-interest to GGB Bearing Technology (Suzhou) Co., Ltd. (GGB). For these final results, Commerce continues to find that Stemco is the successor-in-interest to GGB.

DATES: Applicable February 22, 2023.

FOR FURTHER INFORMATION CONTACT: Melissa Porpotage, AD/CVD Operations, Office II, Enforcement and Compliance, International Trade Administration, U.S. Department of Commerce, 1401 Constitution Avenue NW, Washington, DC 20230; telephone: (202) 482-1413.

SUPPLEMENTARY INFORMATION:

Background

On January 3, 2023, Commerce published the Initiation and Preliminary Results ¹ of this CCR, in which Commerce preliminarily found that Stemco is the successor-in-interest to GGB in the context of the Order.² We provided interested parties with the opportunity to comment and request a public hearing regarding the Initiation and Preliminary Results.³ On February 2, 2023, Stemco submitted a letter in lieu of a case brief noting that Stemco supports Commerce's findings and requests that Commerce affirm the Initiation and Preliminary Results.⁴ We received no other comments.

¹ See Tapered Roller Bearings and Parts Thereof, Finished and Unfinished, from the People's Republic of China: Notice of Initiation and Preliminary Results of Antidumping Duty Changed Circumstances Review, 88 FR 49 (January 3, 2023) (Initiation and Preliminary Results).

² Id.; see also Tapered Roller Bearings and Parts Thereof, Finished or Unfinished, from the People's Republic of China, 52 FR 22667 (June 15, 1987), as amended in Tapered Roller Bearings from the People's Republic of China; Amendment to Final Determination of Sales at Less Than Fair Value and Antidumping Duty Order in Accordance with Decision Upon Remand, 55 FR 6669 (February 26, 1990) (Order).

³ See Initiation and Preliminary Results, 88 FR at 50.

⁴ See Stemco's Letter, “Stemco's Letter in Lieu of Case Brief,” dated February 2, 2023 (Stemco's Letter).

Scope of the Order

Merchandise covered by the Order are tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the Order is dispositive.

Final Results of Review

Based on the comments received ⁵ and finding no information or evidence on the record that calls into question the Initiation and Preliminary Results, we continue to find that Stemco is the successor-in-interest to GGB.⁶ As a result of this determination and consistent with established practice, we find that Stemco is entitled to receive the cash deposit rate assigned to GGB. Consequently, Commerce will instruct U.S. Customs and Border Protection to suspend entries of subject merchandise produced or exported by Stemco at GGB's current cash deposit rate of 7.04 percent.⁷ This cash deposit requirement will be effective on the publication date of these final results and shall remain in effect until further notice.

⁵ Id.

⁶ See Initiation and Preliminary Results, 88 FR at 49-50.

⁷ See Tapered Roller Bearings and Parts Thereof, Finished and Unfinished, from the People's Republic of China: Final Results of Antidumping Duty Administrative Review; 2016-2017, 84 FR 6132 (February 26, 2019).

Administrative Protective Order

This notice serves as a final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(b)(1) and 777(i) of the Tariff Act of 1930, as amended, and 19 CFR 351.216 and 351.221(c)(3)(i).

Dated: February 15, 2023.
Lisa W. Wang,
Assistant Secretary for Enforcement and Compliance.

[FR Doc. 2023-03641 Filed 2-21-23; 8:45 am]

BILLING CODE 3510-DS-P